DEPARTMENT OF ENERGY

Environmental Management Site-Specific Advisory Board, Paducah

AGENCY: Department of Energy (DOE).

ACTION: Notice of open meeting.

SUMMARY: This notice announces a meeting of the Environmental Management Site-Specific Advisory Board (EM SSAB), Paducah. The Federal Advisory Committee Act (Pub. L. No. 92-463, 86 Stat. 770) requires that public notice of this meeting be announced in the Federal Register.

DATES: Thursday, September 20, 2007. 6 p.m.

ADDRESSES: 111 Memorial Drive, Barkley Centre, Paducah, Kentucky 42001.

FOR FURTHER INFORMATION CONTACT: Reinhard Knerr, Deputy Designated Federal Officer, Department of Energy Paducah Site Office, Post Office Box 1410, MS-103, Paducah, Kentucky 42001, (270) 441-6825.

SUPPLEMENTARY INFORMATION: Purpose of the Board: The purpose of the Board is to make recommendations to DOE in the areas of environmental restoration, waste management and related activities.

Tentative Agenda

6 p.m.—Call to Order, Introductions, Review of Agenda, and Approval of July Minutes.

6:15 p.m.—Deputy Designated Federal Officer's Comments.

6:30 p.m.—Federal Coordinator's Comments.

6:35 p.m.— Liaisons' Comments.

6:45 p.m.—Review of Action Items.

6:50 p.m.—Public Comments and Questions.

7 p.m.—Presentations

• C-400 90% Design Remedy Review.

• Soil Piles Investigation.

7:30 p.m.—Subcommittee Reports

• Water Disposition/Water Quality Subcommittee.

• Community Outreach Subcommittee.

• Long Range Strategy/Stewardship Subcommittee.

• Executive Committee.

7:45 p.m.—Public Comments and Questions.

7:55 p.m.—Administrative Issues: Motions, Review of Work Plan, and Review of Next Agenda.

8 p.m.—Final Comments.

8:15 p.m.—Adjourn.

Breaks Taken As Appropriate.

Public Participation: The meeting is open to the public. Written statements may be filed with the Board either before or after the meeting. Individuals who wish to make oral statements pertaining to agenda items should contact Reinhard Knerr at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: The minutes of this meeting will be available for public review and copying at the U.S. Department of Energy's Freedom of Information Public Reading Room, 1E-190, Forrestal Building, 1000 Independence Avenue, SW., Washington, DC 20585 between 9 a.m. and 4 p.m., Monday-Friday, except Federal holidays. Minutes will also be available at the Department of Energy's Environmental Information Center and Reading Room at 115 Memorial Drive, Barkley Centre, Paducah, Kentucky between 8 a.m. and 5 p.m. on Monday through Friday or by writing to Reinhard Knerr, Department of Energy, Paducah Site Office, Post Office Box 1410, MS-103, Paducah, Kentucky 42001 or by calling him at (270) 441-6825.

Issued at Washington, DC on July 31, 2007.
Rachel M. Samuel,
Deputy Committee Management Officer.

[FR Doc. E7-15077 Filed 8-2-07; 8:45 am]

BILLING CODE 6450-01-P